DEPARTMENT OF HEALTH AND HUMAN SERVICES

Centers for Disease Control and Prevention

[60Day-22-22FS; Docket No. CDC-2022-0071]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Artificial Stone Countertops: Exposures, Controls, Surveillance, & Translation. The purpose of the proposed data collection is to conduct a survey with artificial stone countertop fabrication facilities to better understand, work practices and controls related to respirable crystalline silica, barriers or facilitators to implementation of medical and exposure monitoring requirements, and to identify areas for potential intervention, as well as countertop fabrication facilities willing to participate in future NIOSH exposure and health research.

DATES: CDC must receive written comments on or before August 1, 2022.

ADDRESSES: You may submit comments, identified by Docket No. CDC-2022-0071 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Artificial Stone Countertops: Exposures, Controls, Surveillance, & Translation—New—National Institute for Occupational Safety and Health (NIOSH), Centers for Disease Control and Prevention (CDC).

Background and Brief Description

As a recently introduced technology in the United States, the Artificial Stone (AS) Countertop industry is not well defined; the obligation to monitor workers' health might not be known, considered, or understood; and education on potential hazards and health risks related to respirable crystalline silica (RCS) is limited. Exposure is associated with the development of silicosis, an irreversible, sometimes fatal, but preventable lung disease. Twenty-four cases of silicosis, including two deaths, have been reported among AS fabrication workers in the United States. The anticipated impacts of this project are increased understanding of industry scale, practices, and medical monitoring, and increased collaboration and communication to inform the AS countertop industry of industry hazards, methods to mitigate exposure, and improvement of medical surveillance. Understanding how or if current RCS recommendations and regulations are used by various AS countertop fabrication facilities will identify approaches for improved intervention.

The purpose of the proposed collection is to conduct a survey with AS countertop fabrication facilities to better understand (1) work practices and controls related to respirable crystalline silica, (2) barriers or facilitators to implementation of medical and exposure monitoring requirements, (3) identify areas for potential intervention, and (4) identify countertop fabrication facilities willing to participate in future NIOSH exposure and health research.

The estimate of burden hours is based on an internal pilot test of the survey instrument. In the internal pilot test, 10 simulated interviews were conducted and the average time for reviewing instructions, gathering mock information, and completing the survey was between 10-30 minutes. For the purposes of estimating burden hours, the median time to complete the survey is used. There are approximately 8,694 countertop fabrication establishments in the United States. There are screening questions at the beginning of the survey so all respondents may not actually participate. An estimated 8,600 respondents are anticipated to participate in the survey. CDC requests approval for an estimated 2,150 annual burden hours.

There are no costs to respondents other than their time to participate.

Estimated Annualized Burden Hours
Type of respondents | Form name | Number of respondents | Number of responses per respondent | Average burden per response (in hours) | Total burden (in hours)
AS Countertop Facility Managers/Owners | Survey | 8,600 | 1 | 15/60 | 2,150
Total |  |  |  |  | 2,150

Jeffrey M. Zirger,
Lead, Information Collection Review Office, Office of Scientific Integrity, Office of Science, Centers for Disease Control and Prevention.

[FR Doc. 2022-11770 Filed 6-1-22; 8:45 am]

BILLING CODE 4163-18-P